DEPARTMENT OF COMMERCE

National Telecommunications and Information Administration

[Docket No: 070920527-7528-01]

Low-Power Television and Translator Digital-to-Analog Conversion Program

AGENCY: National Telecommunications and Information Administration (NTIA), Department of Commerce.

ACTION: Initial announcement—notice of availability of funds.

SUMMARY: The National Telecommunications and Information Administration (NTIA) has established a program through which each eligible low-power television broadcast station, Class A television station, television translator station, or television booster station, may receive compensation toward the cost of the purchase of a digital-to-analog conversion device that enables it to convert the incoming digital signal of its corresponding full-power television station to analog format for transmission on the low-power television station's analog channel. The conversion devices are necessary so the eligible stations can continue to broadcast in analog after February 17, 2009.¹ Without converter devices, the eligible facilities will be unable to receive the incoming off-air digital signal for conversion and rebroadcast to consumers within their coverage area.

¹ February 17, 2009, is the date that full-power television stations are required to cease analog broadcasting. 47 U.S.C. 309(j)(14); see also Deficit Reduction Act of 2005, 120 Stat. at 21.

DATES: Applications for the Low-Power Digital Conversion Program may be submitted during the period October 29, 2007-February 17, 2009. Applications requesting Priority compensation may be submitted during the three-month period October 29, 2007-January 31, 2008. Non-priority applications may be submitted beginning February 1, 2008.

FOR FURTHER INFORMATION CONTACT: NTIA Program Officers are prepared to give technical assistance to potential applicants within available resources. They may be contacted by telephone at (202) 482-5802, by fax at (202) 482-2156, or by mail at the address given in Section IV (NTIA mailing and delivery address for applications), above. NTIA e-mail address is lptv@ntia.doc.gov.

SUPPLEMENTARY INFORMATION: Catalog of Federal Domestic Assistance (CFDA) Number: 11.553.

Program Authority: The Deficit Reduction Act of 2005, Pub. L. 109-171, Section 3008, 120 Stat. 4, 25-26 (2006).

Amount to be Awarded: $8 million; approximately 8,000 awards.

Funding Instrument: Grant.

Eligible Applicants: Any individual or organization that holds a license or construction permit from the Federal Communications Commission for a low-power television broadcast station, Class A television station, translator television station or booster television station.

Additional Information on Eligibility: To be eligible for this program, a low-power, Class A, translator or booster television station (1) must be broadcasting exclusively in analog format; and (2) did not purchase a digital to analog conversion device as defined by the program prior to the date of enactment of the Digital Television Transition and Public Safety Act of 2005.²

² Title III of the Deficit Reduction Act of 2005 may be cited as the “Digital Television Transition and Public Safety Act of 2005.” The Deficit Reduction Act of 2005, Pub. L. No. 109-171, was enacted into law on February 8, 2006.

Cost Sharing: Cost sharing is not required.

Limitation on Number of Applications: None.

I. Funding Opportunity Description

A. Overview

In this Notice of Availability of Funds (Notice), NTIA implements the Low-power Television and Translator Digital-to-Analog Conversion Program pursuant to Section 3008 of the Deficit Reduction Act of 2005 (Act). This Act, among other things, directs the Federal Communications Commission (FCC) to require full-power television stations to cease analog broadcasting after February 17, 2009, but permits low-power television stations, Class A stations, television translator stations and booster stations to continue broadcasting in analog after that date. It also authorizes NTIA to create an assistance program for low-power stations desiring to continue analog broadcasts. Specifically, Section 3008 of the Act authorizes the Assistant Secretary for Communications and Information “to implement and administer a program through which each eligible low-power television station may receive compensation toward the cost of the purchase of a digital-to-analog conversion device that enables it to convert the incoming digital signal of its corresponding full-power television station to analog format for transmission on the low-power television station's analog channel.” ³

³ 120 Stat. at 25, 26.

B. Summary of Relevant Provisions of the Act

Section 3002 of the Act amends the Communications Act of 1934 to permit low-power television broadcast stations, Class A television stations, television translator stations, and television booster stations to continue to broadcast in analog after the February 17, 2009, deadline for digital conversion of full-power television stations.⁴ This section further requires all Class A television stations in the digital television service to broadcast in the radio spectrum between 54 and 698 megahertz (MHZ), by February 18, 2009.⁵ Section 3003 of the Act directs the FCC to begin an auction of returned analog television spectrum no later than January 28, 2008, and to deposit auction proceeds into a fund established by the Act no later than June 30, 2008. The returned analog television spectrum to be auctioned is the band between 698 and 806 MHZ, except for the 24 MHZ that has been reserved for public safety uses and certain other frequencies that have already been made available through auction.⁶ Section 3004 of the Act establishes a new Treasury fund to be known as the Digital Television Transition and Public Safety Fund (Fund).⁷ It directs the receipts from the FCC's analog spectrum return auction to be deposited into the Fund.

⁴ Id. at 21.

⁵ Id.

⁶ Id. at 22.

⁷ Id.

Specific to this Notice, Section 3008 of the Act directs NTIA to implement and administer a program through which each eligible low-power television broadcast station, Class A television station, television translator station, or television booster station, may receive compensation toward the cost of the purchase of a digital-to-analog conversion device that enables it to convert the incoming digital signal of its corresponding full-power television station to analog format for transmission on the low-power television station's analog channel. The Act defines the term “eligible low-power broadcast television station” to mean a “a low-power television broadcast station, Class A television station, television translator station, or television booster station—(1) that is itself broadcasting exclusively in analog format; and (2) that has not purchased a digital-to-analog conversion device prior to the date of enactment of the Digital Television Transition and Public Safety Act of 2005.” ⁸ The Act authorizes NTIA to use up to $10 million from the Fund to implement the program. This section also authorizes NTIA, beginning on October 1, 2006, to borrow not more than $10 million from the Treasury to implement the program. NTIA, however, must reimburse the Treasury for this amount, without interest, as recovered analog television spectrum auction proceeds are deposited into the Fund.

⁸ Id. at 26.

In a related matter, though not directly the subject of this Notice, Section 3009 of the Act creates a second program to assist low-power television stations. Under Section 3009, NTIA is authorized to make payments up to $65 million “to upgrade low-power television stations from analog to digital in eligible rural communities.” ⁹ NTIA does not have borrowing authority for the program established under Section 3009 and so must wait until funds are deposited in the Fund, by June 30, 2008, before beginning this second program. As part of this Notice, NTIA will also seek information from low-power stations, Class A stations, television translator stations and booster stations that may be eligible for payments from NTIA under Section 3009, even if they may not qualify for payments under the Section 3008 program. This information is discussed further below in Section VIII B (Application Forms).

⁹ Id.

II. Award Information

NTIA funding assistance is in the form of grants. As explained further below, NTIA will provide a uniform grant of $1,000 per station for the purchase of a digital-to-analog conversion device. As of July 2007, the FCC has authorized approximately 8,000 low-power and translator stations. NTIA is authorized under Section 3008 to expend up to $10 million for this program, including the costs of program administration. There are sufficient monies available to enable NTIA to award grants on a non-competitive basis to all eligible stations that have filed a complete, timely application.

The award period of the grant will start as soon as possible after receipt, review and approval of the application. Grantees will be notified of the approval date of their award.

Grantees will be given a six-month period after a grant is awarded during which the equipment funded by the grant must be purchased and installed.

NTIA will also issue grants to reimburse those eligible stations who purchased an eligible digital-to-analog conversion device after February 8, 2006, the date of enactment of the Act.

Grantees must retain records of purchase of the digital-to-analog conversion device for a three-year period following receipt of the NTIA grant. NTIA will randomly request documentation of equipment purchases within this time period. Grantee must keep all records intact and accessible for a three-year period.¹⁰

¹⁰ 2 CFR 215.53(b). While this section refers to requirements imposed upon non-profit organizations receiving federal grants, NTIA imposes the requirement on all grantees under this program.

III. Applicant Eligibility Information

Section 3008(c) of the Act defines the term “eligible low-power television station” to mean “a low-power television broadcast station, Class A television station, television translator station, or television booster station—(1) that is itself broadcasting exclusively in analog format; and (2) that has not purchased a digital-to-analog conversion device prior to the date of enactment of the Digital Television Transition and Public Safety Act of 2005.” ¹¹

¹¹ 120 Stat. at 26.

NTIA interprets a “low-power television broadcast station, Class A television station, television translator station, or television booster station” to mean a facility authorized by the Federal Communications Commission to use the television broadcast spectrum. NTIA will require an eligible station to have FCC broadcast authorization.

The Act states that an eligible station must be “itself broadcasting exclusively in analog format.” ¹² NTIA interprets this language to mean that the facility must be broadcasting as authorized by the FCC, not merely possess a Construction Permit. Authorization for broadcast, however, does not mean that the FCC must have issued a license for the station. Under Section 74.14 of the FCC's Rules, 47 CFR 74.14, a station can begin broadcasting service or program tests once it has completed construction and filed for a license showing that it complies with the FCC's technical requirements and engineering standards.

¹² Id. (emphasis added).

Since almost all full power television stations are now broadcasting a digital signal, NTIA believes that low-power television and translator stations now currently under construction should be installing equipment to receive their corresponding full power station's digital signal, rather than its analog signal. NTIA published information on its Web site regarding program implementation and included a statement that suggested September 30, 2007, as the date by which low-power stations must be broadcasting to be eligible for this program.¹³ To provide those applicants nearing completion of their facility sufficient time to complete their construction and prepare FCC license filings, NTIA will permit applicants to file their FCC license applications prior to November 29, 2007. In sum, NTIA will require that an applicant for this program either hold an FCC broadcast license or have filed an application for a broadcast license prior to November 29, 2007.

¹³ NTIA Low-Power Television Digital Programs. June 22, 2007, http://www.ntia.doc.gov/otiahome/dtv/LPTVDigital_070622.htm.

Included in the Act's definition of an eligible station is the requirement that it “is broadcasting exclusively in analog format.” ¹⁴ NTIA understands that, under FCC procedures, a single broadcast television can operate both analog and digital transmission facilities. Under the FCC's digital television rules, television stations have operated on both an analog channel and on a companion digital channel. The FCC considers these facilities as a single station licensed under a single set of call letters, broadcasting both on an analog and on a digital channel. The FCC is now assigning digital companion channels to low-power television facilities. Inasmuch as the Act requires a low-power station to be broadcasting exclusively in analog format, stations that broadcast in digital, either on the main channel or on a companion channel, will not be eligible to participate in this program. An applicant to the program must certify that it does not broadcast in digital as of the date of submission of the application.

¹⁴ 120 Stat. at 26 (emphasis added).

The Act further includes in the definition of an eligible station the requirement that the facility “has not purchased a digital-to-analog conversion device prior to the date of enactment of the Digital Television Transition and Public Safety Act of 2005” (i.e., February 8, 2006).¹⁵ NTIA considers a purchase made when funds are obligated through the issuance of a purchase order or other means, not when funds are actually paid. Applicants must be able to certify that they did not order or purchase a digital-to-analog conversion device, as discussed in this document, prior to February 8, 2006.

¹⁵ Id.

IV. Project Eligibility

In addition to the definition of an eligible station as discussed above, Section 3008(a) of the Act limits the program to those stations that need “to convert the incoming digital signal of [their] corresponding full-power television station to analog format for transmission on the low-power television station's analog channel.” ¹⁶

¹⁶ Id.

The Act provides that the digital-to-analog converter device can only be used by a low-power station that receives a digital signal from its corresponding full-power television station, and converts that digital signal to an analog signal. While the digital-to-analog converter device usually is placed at the low-power station site, it sometimes is located at a remote head-end location and then the full power station signal relayed to the low-power station site by microwave or other means. In circumstances where the microwave provides a signal to more than one low-power station, only a single digital-to-analog converter can be funded by the program.

While the digital-to-analog converter device described in the Act can be used by a low-power station that receives its digital television signal off-air at either the station site or at an intermediate microwave head end site, it cannot be used by a low-power station that receives its signal via satellite.¹⁷ Further, it cannot be used by a low-power station that receives an analog television signal, such as those in a “daisy chain” of low-power stations where the first station converts a full-power digital television signal to analog, and the remaining stations in the chain rebroadcast the previous low-power station's analog signal. Low-power stations that receive a signal from an analog low-power station in a daisy chain or via satellite, therefore, are not eligible for this program.

¹⁷ Incoming satellite or microwave signals are usually baseband video and audio. Translators fed in this manner are different from those referred to in the Act. A low-power station receiving a satellite or microwave signal could not use an off-air digital-to-analog conversion device as proposed in the Act (other than stations receiving a microwave signal fed via an intermediate off-air pick up as described above).

V. Equipment Eligibility

As noted earlier, Section 3008(a) of the Act authorizes NTIA to support the purchase “of a digital-to-analog conversion device that enables [the station] to convert the incoming digital signal of its corresponding full-power television station to analog format * * *.” ¹⁸ The device described in the Act is a digital tuner/receiver that will pick up the digital television signal of the full-power digital station and provide an output to feed the low-power station's analog transmission system. The digital turner/receiver will replace the analog tuner/receiver currently used by many low-power stations to pick up the off-air analog signal of the corresponding full-power analog television station. A professional grade digital tuner/receiver should have the capability of auto reset to the designated full-power TV station virtual channel (e.g. Ch. 26-3) in event of power failure. The output of the digital tuner/receiver would normally provide a baseband video signal which in turn can feed the station's existing modulator to modulate an RF signal that would drive the low-power station's transmission system.

¹⁸ 120 Stat. at 25.

Professional-grade digital off-air tuners must have the capability to reset to the desired channel in the event of power failure. Some translators transmit the SAP signal for Reading Services or Second Language Programming, and continuity of those services should be considered for those stations utilizing the subcarrier. Additionally, at the time they cease analog operations, some full power digital television stations will change their transmit frequency. NTIA believes the receiver should be agile and easily adjustable to either the VHF or UHF bands. NTIA also recognizes the likelihood that additional costs may arise for outside receive antennas considering that many digital transmitters are allocated to UHF frequencies. However, outside receive antennas are not “digital-to-analog conversion device[s]” and will not be supported by the program.

NTIA will award each eligible station a grant of $1,000 for the purchase of a digital tuner/receiver to pick-up the off-air signal of its corresponding full-power station for conversion to analog broadcasts.¹⁹ NTIA understands that some low-power stations use a heterodyne technology that integrates the station's existing analog tuner/receiver and the station's modulator inside a single box. These stations may have to purchase a separate modulator to interface with the NTIA funded digital tuner/receiver, or they may use the NTIA grant of $1,000 to purchase a heterodyne unit that includes a digital tuner/receiver function, if these units are commercially available. NTIA encourages broadcast equipment manufacturers to provide heterodyne units that include both analog RF and digital RF outputs to feed transmission systems. Such units will assist low-power television stations in economically switching to digital broadcasting in the future.

¹⁹ This maximum amount is consistent with legislative history of Section 3008. See H.R. Rep. 109-362, at 204 (2005) (providing that the “Assistant Secretary shall determine the maximum amount of compensation such a low-power television station may receive based on the average cost of such digital-to-analog conversion devices during the time period such low-power broadcast television station purchased the digital-to-analog conversion devices, but in no case shall such compensation exceed $1,000.”) At the time of Conference Report's publication, professional grade digital off-air tuners with analog outputs were commercially available for approximately $1,000. Several models were available from manufacturers including CADCO, LG and Zenith at prices ranging from $800 to $1,400.

VI. Priority Compensation

Section 3008(a) mandates that “[p]riority compensation shall be given to eligible low-power television stations in which the license is held by a non-profit corporation and eligible low-power television stations that serve rural areas of fewer than 10,000 viewers.” ²⁰

²⁰ 120 Stat. at 26.

The provision of priority compensation raises several issues that will be discussed in the following paragraphs. These issues are: (1) The definition of a non-profit corporation, (2) the definition of eligible low-power television stations that serve rural areas of fewer than 10,000 viewers, (3) how a request for priority status should be documented, and (4) how the priority should be given.

The Act does not define the term “non-profit corporation.” NTIA will accept the common usage of the term non-profit corporation as a corporation that has received a determination of non-profit status under state or Federal law, including stations licensed to entities organized under Section 501(c) of the Internal Revenue Service Code.²¹ Under this definition, a governmental unit would not qualify for priority compensation unless the unit has a separate corporate charter and has received a determination of non-profit status. NTIA will accept applicant self-certification as to whether it is a non-profit corporation. NTIA reserves the right to request an applicant to provide documentation of its non-profit status.

²¹ 26 U.S.C. 501(c) except not (c)(4).

The Act also requires that priority compensation be given to low-power stations that “serve rural areas of fewer than 10,000 viewers.” ²² NTIA recognizes that there are several hundred low-power stations that may request priority under this provision. To determine station eligibility for priority compensation, NTIA will utilize the industry standard for population coverage as established by the FCC. This standard is the population within the 50/50 contour. NTIA will use the population within a low-power station's 50/50 service contour as one of the criteria upon which to base the award of priority compensation. Applicants must certify that a station's 50/50 contour includes fewer than 10,000 people to qualify for the program's priority compensation. NTIA reserves the right to request an applicant provide documentation of this population coverage.

²² 120 Stat. at 26.

In sum, an applicant requesting priority compensation must (i) be a non-profit corporation; or (ii) serve fewer than 10,000 people within the low-power station's 50/50 service contour.

In addition to determining how to establish the priority for service to rural areas, NTIA must also determine how to implement this priority. Under the Act, there is approximately a 16 and one-half month period when stations can request funding that begins October 1, 2007 and ends February 17, 2009.²³ NTIA believes that the easiest way to administer the priority is to establish two application periods. During the first application period, (the Priority Period) which would extend for three months from the date of publication of this Notice, October 29, 2007, through January 31, 2008, NTIA will only process applications from stations that are eligible for priority consideration. Beginning February 1, 2008, NTIA would conduct an Open Period during which it would process all applications regardless of priority.

²³ Section 3008(a) of the Act states that NTIA may make payments during FY 2008 (which begins October 1, 2007) and FY 2009, and that stations must submit requests by February 17, 2009.

VII. Matching Funds Requirements

There are no matching funds required for this program. There is no limit on the number of applications an applicant may submit.

VIII. Application Procedures

A. Application Submission

NTIA will accept applications that are postmarked during the 15 and one-half month period October 29, 2007, through February 17, 2009.

Applicants may request funds for each eligible station they operate. Applicants may submit only a single request for each station unless additional information for a specific station is requested by NTIA. NTIA will also request additional information if required to process any incomplete application. In order to ease the administrative burden on both the applicant and NTIA, applicants are encouraged to request funds for several stations in a submission.

During the three month period, October 29, 2007, through January 31, 2008, NTIA will process only those applications that qualify for Priority Compensation, as discussed above. Applications submitted during this period that do not qualify for priority compensation will be held by NTIA and processed during the Open Period.

After January 31, 2008, NTIA will process all applications submitted during the Open Period and those applications submitted during the Priority Period that do not qualify for priority compensation. Section 3008(a) of the Act requires applications to be submitted “on or before February 17, 2009,” which is the same date as the cessation of analog broadcasting by full-power television stations. Under the Act, applications postmarked after February 17, 2009 are ineligible for NTIA funding and will be returned. NTIA will also return applications which do not meet the eligibility criteria of the program.

B. Applications Forms

Applications for the Low-Power Television and Translator Digital Conversion Program consist of two forms. Both forms must be prepared electronically on the Internet. Forms cannot be submitted electronically. Once completed electronically, applicants must print the forms and sign each form individually. One original plus one copy of the application must be mailed to NTIA and postmarked on or before February 17, 2009. NTIA will not accept facsimile or e-mail applications. The first form, Low-Power Television and Translator Digital-to-Analog Conversion Program Application Form (DTV-4), provides information regarding the eligibility of the applicant and of each station for which funds are requested. The second form, ACH Vendor/Miscellaneous Payment Enrollment Form (SF 3881), provides NTIA with payment information so it can electronically deposit grant funds to the applicant's bank account

Applications forms and instructions are available on the Internet at http://www.ntia.doc.gov/lptv. A complete application includes the following two forms:

1. DTV-4 Application Form: Low-Power Television and Translator Digital Conversion Program

Much of the information for the DTV-4 form can be found in the station's FCC file. We recommend that applicants have their FCC files available when preparing their NTIA application(s). After applicants enter FCC data, sections of the form will be pre-filled with information from the FCC's database.

Part 1 Information about the applicant (station licensee).

Applicant must enter the following information: name, address, contact information, type of applicant (whether the applicant is a non-profit corporation) and DUNS number. All applicants are required to provide a Dun and Bradstreet Data Universal Numbering System (DUNS) number when applying for Federal grants. See the October 30, 2002 (67 FR 66177), and April 8, 2003 (68 FR 17000), Federal Register notices for additional information. Applicants can receive a DUNS number at no cost by calling the dedicated toll-free DUNS Number request line 1-866-705-5711 or via the Internet (http://www.dunandbradstreet.com).

Part 2 Information about the station.

Applicant must enter its FCC Facility ID Number, call letters, location, how the station receives the signal of its corresponding full-power television station, and population within the FCC 50/50 contour.

Applicants must complete Part 2 for each station for which funds are requested.

Part 3 Certifications.

The original application must contain an original signature from an authorized representative of the applicant organization (or individual).

Part 4 Optional Information for the Low-Power Digital Upgrade Program.

This section requests optional information about a station's power, transmitter, antenna, site, and population that will assist NTIA in planning for the Upgrade Program authorized under Section 3009 of the Act. Applicants are asked to complete Part 4 for each station they operate, even if the station does not qualify for the Digital Conversion Program funds.

2. SF-3881 ACH Vendor/Miscellaneous Payment Enrollment Form

Agency Information. This section will be pre-filled by NTIA.

Payee/Company Information. This section will be filled automatically after completion of Part I of the DTV-4 form.

Financial Institution Information. The applicant must complete information about the financial institution and bank account where the NTIA funds will be electronically deposited. Please call your financial institution to obtain the name and phone number of the ACH coordinator and enter this on the 4th line of this section. After completing the ACH form, take the form to your financial institution. This form is a certification and the original application must contain an original signature from an authorized representative of the financial institution.

C. Mailing and Delivery Address for Applications

The mailing and delivery address for the Low-Power Television and Translator Digital-to-Analog Conversion Program is: NTIA LPTV Conversion Program, Room H-4812, U.S. Department of Commerce, 1401 Constitution Avenue, NW., Washington, DC 20230.

Applicants should note that all material sent via the U.S. Postal Service (including “Overnight” or “Express Mail”) is irradiated and may be damaged in the process. NTIA recommends that applicants use alternate overnight delivery services when submitting their applications.

Hand-deliveries of applications must be made through Room 1874, located at entrance #10 on 15th Street, NW.

X. Administrative Matters

A. Paperwork Reduction Act

Notwithstanding any other provision of the law, no person is required to respond to, nor shall any person be subject to a penalty for failure to comply with, a collection of information subject to the requirements of the Paperwork Reduction Act (PRA), unless that collection displays a currently valid Office of Management and Budget (OMB) control number. The DTV-4 application form has been cleared under OMB control no. 0660-0022.

B. Intergovernmental Review

Applications under this program are not subject to Executive Order 12372, “Intergovernmental Review of Federal Programs.”

C. Executive Order 13132

It has been determined that this notice does not contain policies with Federalism implications as that term is defined in Executive Order 13132.

D. Administrative Procedure Act/Regulatory Flexibility Act

Prior notice and opportunity for public comment are not required by the Administrative Procedure Act or any other law for rules concerning grants, benefits, and contracts (5 U.S.C. 553(a)). Because notice and opportunity for comment are not required pursuant to 5 U.S.C. 553 or any other law, the analytical requirements of the Regulatory Flexibility Act (5 U.S.C. 601 et seq.) are inapplicable. Therefore, a regulatory flexibility analysis has not been prepared.

E. Administrative and National Policy Requirements

Administrative and national policy requirements for all Department of Commerce awards are contained in the Department of Commerce Pre-Award Notification Requirements for Grants and Cooperative Agreements, published in the Federal Register on December 30, 2004 (69 FR 78389). This notice may be accessed by entering the Federal Register volume and page number provided in the previous sentence at the following Internet Web site: http://www.gpoaccess.gov/fr/retrieve.html.

XI. Agency Contacts

The program officers, their e-mail addresses, direct phone numbers, and their areas of responsibility are listed below:

Rocky Mountain States: Arizona, Colorado, Idaho, Montana, Nevada, New Mexico, Texas, Utah, and Wyoming. Lynn ChadwicK, lchadwick@ntia.doc.gov, (202) 482-8338.

All other states and territories: Larry Dyer, ldyer@ntia.doc.gov, 202-482-1762.

Applicants may also contact: William Cooperman, Director, wcooperman@ntia.doc.gov, (202) 482-5802.

Contact for electronic access problems: ntiahelpdesk@ntia.doc.gov, (202) 482-4631.

Answers to Frequently Asked Questions about the Low-Power and Translator Conversion Program grants and applications are available online at http://www.ntia.doc.gov/lptv.

Questions regarding Department of Commerce grant policies may be directed to: Joyce Brigham NIST/GAMD Grants Officer, Joyce.brigham@nist.gov, (301) 975-6329.

Bernadette McGuire-Rivera,
Associate Administrator, Office of Telecommunications and Information Applications.

[FR Doc. E7-21113 Filed 10-26-07; 8:45 am]

BILLING CODE 3510-60-P